DEPARTMENT OF HOUSING AND URBAN DEVELOPMENT

[Docket No. FR-5121-N-10]

Notice of Proposed Information Collection: Comment Request; Mortgage Insurance Termination; Application for Premium Refund or Distributive Share Payment

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: May 29, 2007.

ADDRESSES: Interested persons are invited to submit comments regarding this proposal. Comments should refer to the proposal by name and/or OMB Control Number and should be sent to: Lillian L. Deitzer, Reports Management Officer, Department of Housing and Urban Development, 451 7th Street, SW., Washington, DC 20410 or Lillian_L_Deitzer@hud.gov.

FOR FURTHER INFORMATION CONTACT: For information concerning Mortgage Insurance Termination contact Gabrielle Scandone, Branch Chief, Systems Management Branch, Single Family Insurance Operations Division (SFIOD), telephone (202) 402-2717 (this is not a toll free number) or for information concerning Form HUD-27050-B, Application for Premium Refund or Distributive Share, contact Silas C. Vaughn, Jr., Branch Chief, Disbursements and Customer Service Branch, SFIOD, telephone (202) 402-3545 (this is not a toll free number) Department of Housing and Urban Development, 451 7th Street SW., Washington, DC 20410.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses. This Notice also lists the following information:

Title of Proposal: Mortgage Insurance Termination; Application for Premium Refund or Distributive Share Payment.

OMB Control Number, if applicable: 2502-0414.

Description of the need for the information and proposed use: The information collection for the Mortgage Insurance Termination is used by Federal Housing Administration (FHA) approved mortgagees to comply with HUD requirements for reporting the termination of FHA mortgage insurance on single family dwellings (24 CFR 203.318). The form HUD-27050-A is now obsolete. However, the information collection is still in effect and is collected electronically through Electronic Data Interchange and via FHA Connection. The Application for Premium Refund or Distributive Share Payment is used by former FHA mortgagors to apply for homeowner refunds of the unearned portion of the mortgage insurance premium or a distributive share payment (24 CFR 203.423, 24 CFR 203.283, and 24 CFR 203.284).

Agency form numbers, if applicable: HUD-27050-A (Submitted electronically) and HUD-27050-B (System generated).

Estimation of the total numbers of hours needed to prepare the information collection including number of respondents, frequency of response, and hours of response: The estimated total number of burden hours needed to prepare the information collection is 157,932; the number of respondents is 462,349 generating approximately 1,004,407 annual responses; the frequency of response is on occasion for mortgagors and varies for lenders; and the estimated time needed to prepare the response is 5 minutes for lenders and 15 minutes for mortgagors.

Status of the proposed information collection: This is an extension of a currently approved collection.

Authority: The Paperwork Reduction Act of 1995, 44 U.S.C., Chapter 35, as amended.

Dated: March 1, 2007.
Frank L. Davis,
General Deputy Assistant Secretary for Housing-Deputy Federal Housing Commissioner.

[FR Doc. E7-5625 Filed 3-27-07; 8:45 am]

BILLING CODE 4210-67-P